DEPARTMENT OF THE INTERIOR

National Park Service

National Register of Historic Places; Notification of Pending Nominations and Related Actions

Nominations for the following properties being considered for listing or related actions in the National Register were received by the National Park Service before August 11, 2007. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by September 11, 2007.

J. Paul Loether,
Chief, National Register of Historic Places/National Historic Landmarks Program.

ARKANSAS

Ashley County

Crossett Municipal Auditorium, 1100 Main St., Crossett, 07000965

Crossett Municipal Building, 307-309 Main St., Crossett, 07000966

Baxter County

Rollins Hospital, 107 E. Main St., Gassville, 07000970

Boone County

Cricket and Crest Tunnels Historic District, Under and W of Old US 65, Omaha, 07000954

Bradley County

Hermitage City Hall and Jail, 112 S. Oak St., Hermitage, 07000956

Craighead County

Caraway, U.S. Sen. Hattie, Gravesite, Oaklawn Cemetery, 2349 W. Matthews Avenue Lane, Jonesboro, 07000976

Crawford County

Bryant-Lasater House, 770 N. Main St., Mulberry, 07000958

Crittenden County

Turrell City Hall, Old, 160 Eureka St., Turrell, 07000962

Faulkner County

Hendrix College Addition Neighborhood Historic District, Roughly bounded by Washington Ave., Fleming St., Harkrider St. and Winfield St., Conway, 07000973

Garland County

Hot Springs Central Avenue Historic District (Boundary Increase), 101 Park Ave., Hot Springs, 07000957

Williams, Hamp, Building, 500-504 Ouachita Ave., Hot Springs, 07000972

Izard County

Calico Rock Methodist Episcopal Church, 101 W. 1st., Calico Rock, 07000971

Marion County

Cotter Tunnel, Under US 62 E of Cty Rd. 724, Cotter, 07000961

Pyatt Tunnel, Underneath MC 4008 approx 1 mi. S of US 62, Pyatt, 07000953

Ouachita County

Clifton and Greening Street Historic District (Boundary Increase II), 622, 630 and 634 Clifton and 206 Dallas and 502 Greening, Camden, 07000955

Poinsett County

Tyronza Water Tower, (New Deal Recovery Efforts in Arkansas MPS), NW of jct. of Main St. and Oliver St., Tryonza, 07000963

Pope County

US 64, Old, Scotia Segment, (Arkansas Highway History and Architecture MPS), S of US 64, E of Cedar Ln., London, 07000959

Prairie County

Castleberry Hotel, 61 Main St., De Valls Bluff, 07000960

De Valls Bluff Waterworks, (New Deal Recovery Efforts in Arkansas MPS), Jct. of Hazel and Rumbaugh Sts., De Valls Bluff, 07000969

Sevier County

Lockesburg Waterworks, (New Deal Recovery Efforts in Arkansas MPS), Jct. of Hickory and Azales Sts., Lockesburg, 07000964

Union County

Murphy—Hill Historic District, Roughly bounded by E. 5th St., N. Jefferson St., E. Peach St., N. Madison St., and E. Faulkner St., El Dorado, 07000974

Woodruff County

McCrory Waterworks, (New Deal Recovery Efforts in Arkansas MPS), Jct. of N. Fakes and W. Third, McCrory, 07000968

Yell County

Brearley Cemetery Historic Section, AR 27 approx. ½ mi. W of AR 22, Dardanelle, 07000975

ILLINOIS

Cook County, Edison Park, 6755 N. Northwest Hwy., Chicago, 07000990

INDIANA

Elkhart County

Violett—Martin House and Gardens, 2612 S. Main, Goshen, 07000978

Hamilton County

Sheridan Downtown Commercial Historic District, Roughly includes Main St. from E. 2nd to the Old Monon Railroad right-of-way, Sheridan, 07000979

Jackson County

Medora Covered Bridge, off IN 235, ½ mi. SE of Medora over the east fork of the White River, Medora, 07000977

Owen County

Spencer Public Library, 110 E. Market St., Spencer, 07000980

Washington County

Beck's Mill Bridge, Carries Beck's Mill Road over Mill Creek, Salem, 07000981

LOUISIANA

Orleans Parish

Pan-American Life Insurance Company Building, 2400 Canal St., New Orleans, 07000982

West Baton Rouge Parish

Brusly High School Gymnasium, 601 N. Kirkland Dr., Brusly, 07000983

MINNESOTA

Lake County

BENJAMIN NOBLE (Shipwreck), (Minnesota's Lake Superior Shipwrecks MPS), Address Restricted, Knife River, 07000984

SOUTH CAROLINA

Dillon County

Hamer, James W., House, 1253 Harllees Bridge Rd., Little Rock, 07000985

Greenville County

Hopkins Farm, 3717 Fork Shoals Rd., Simpsonville, 07000987

Jasper County

Grays Consolidated High School, US 278, Grays, 07000986

TEXAS

Armstrong County

Goodnight, Charles and Mary Ann (Molly), Ranch House, US287 and 5000 Blk. Cty Rd. 25, Goodnight, 07000988

Dallas County

Stoneleigh Court Hotel, 2927 Maple Ave., Dallas, 07000989

Request(s) for removal have been made for the following resources:

MINNESOTA

Scott County

Bridge No. L3040 (Minnesota Masonry-Arch Highway Bridges), Co. Rd. 51, N of MN 19, Belle Plain vicinity, 89001829

Steele County

Kaplan Apartments, 115 W. Rose St., Owatonna, 86001464

[FR Doc. E7-16865 Filed 8-24-07; 8:45 am]

BILLING CODE 4312-51-P